DEPARTMENT OF TRANSPORTATION

Surface Transportation Board

[STB Finance Docket No. 34879]

Wallowa Union Railroad Authority—Acquisition and Operation Exemption—Union Pacific Railroad Company

Wallowa Union Railroad Authority (WURA), a Class III rail carrier, has filed a verified notice of exemption under 49 CFR 1150.41 to acquire from the Union Pacific Railroad Company (UP) approximately one half-mile of rail line between milepost 21.0 at Elgin, OR, and milepost 20.50 at the North line of Baltimore Street in Elgin, OR.¹

¹ WURA owns and operates the adjacent rail line between milepost 21.0 at Elgin and milepost 83.58 at Joseph, OR. See Wallowa Union Railroad Authority-Acquisition and Operation Exemption—Wallowa County, OR, and Idaho Northern & Pacific Railroad Company, STB Finance Docket No. 34349 (STB served Nov. 26, 2003).

WURA certifies that its projected annual revenues as a result of the transaction will not result in WURA becoming a Class II or Class I rail carrier and will not exceed $5 million.

The transaction was expected to be consummated shortly after July 20, 2006, the effective date of this exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34879, must be filed with the Surface Transportation Board, 1925 K Street, NW., Washington, DC 20423-0001. In addition, a copy of each pleading must be served on Karl Morell, Of Counsel, Ball Janik LLP, Suite 225, 1455 F Street, NW., Washington, DC 20005.

Board decisions and notices are available on our Web site at http://www.stb.dot.gov.

Decided: July 28, 2006.
By the Board, David M. Konschnik, Director, Office of Proceedings.
Vernon A. Williams,
Secretary.

[FR Doc. E6-12643 Filed 8-3-06; 8:45 am]

BILLING CODE 4915-01-P